DEPARTMENT OF AGRICULTURE

Submission for OMB Review; Comment Request

August 16, 2002.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Agricultural Research Service

Title: USDA Biological Shipment Record—Beneficial Organisms.

OMB Control Number: 0518-0013.

Summary of Collection: The Biological Control Documentation Program records the importation and release of foreign biological control agents. Provision of the data is entirely voluntary and is used to populate the USDA “Release of Beneficial Organisms in the United States and Territories” (ROBO) database.

Need and Use of the Information: The Agricultural Research Service will collect information on the biological/control and taxonomic research program by recording the introduction and release of non-indigenous biological control organisms in the pollinators in the United States. If information were not collected there would be no systematic method for the collection of such information.

Description of Respondents: Federal Government; Not-for-profit institutions; State, Local or Tribal Government.

Number of Respondents: 100.

Frequency of Responses: Reporting: On occasion; annually.

Total Burden Hours: 25.

Economic Research Service

Title: Food Security Supplement to the Current Population Survey.

OMB Control Number: 0536-0043.

Summary of Collection: The Food Security Supplement is sponsored by the Economic Research Service (ERS) as a research and evaluation activity authorized under Section 17 of the Food Stamp Act of 1977. ERS is collaborating with the Food and Nutrition Service (FNS) and the Bureau of Census to continue this program of research and development. The Food Stamp Program (FSP) is currently the primary source of nutrition assistance for low-income Americans enabling households to improve their diet by increasing their food purchasing power. As the nation's primary public program for ensuring food security and alleviating hunger, USDA needs to regularly monitor these conditions among its target population. This need requires that USDA continue basic data collection, analysis, and evaluation.

Need and Use of the Information: ERS will collect information from the Current Population Survey Food Security Supplement to routinely obtain data from a large, representative national sample in order to develop a measure that can be used to track the prevalence of food insecurity and hunger within the U.S. population, as a whole, and by important population subgroups, and to continue development and improvement of methods for measuring these conditions. The data collected will partially fulfill the requirements of the Congressionally mandated 10-Year Plan for the National Nutrition Monitoring and Related Research Program.

Description of Respondents: Individuals or households.

Number of Respondents: 57,000.

Frequency of Responses: Reporting: On occasion.

Total Burden Hours: 7,126.

Farm Service Agency

Title: Offer Forms.

OMB Control Number: 0560-0177.

Summary of Collection: The Agricultural Trade Development and Assistance Act of 1954, as amended, (Title II, Pub. L. 480), Section 416(b) of the Agricultural Act of 1949, as amended (Section 416(b)), and the Food for Progress Act of 1985, as amended (for Food for Progress) authorizes CCC's Export Operations Division to procure, sell and transport agricultural commodities, and obtain discharge/delivery survey information. Contractors, vendors, and steamship companies submit competitive offers for agricultural commodities and services. The Farm Service Agency (FSA) will collect information using several forms.

Need and Use of the Information: The information collected will enable Kansas City Commodity Office (KCCO) to evaluate offers impartially, purchase or sell commodities, and obtain services to meet domestic and export program needs. Without the information KCCO could not meet program requirements.

Description of Respondents: Business or other for-profit; Not-for-profit institutions; Federal Government; State, Local or Tribal Government.

Number of Respondents: 2,025.

Frequency of Responses: Recordkeeping; reporting: On occasion; quarterly; weekly; semi-annually; monthly; annually; other (Bi-weekly & bi-monthly)

Total Burden Hours: 6,758.

Rural Utilities Service

Title: Accounting Requirements for RUS Electric and Telecommunications Borrows.

OMB Control Number: 0572-0003.

Summary of Collection: Rural Utilities Service (RUS) is a credit agency of the U.S. Department of Agriculture that makes loans (direct and guaranteed) to finance electric and telecommunications facilities in rural areas. Currently, there are approximately 685 active electric borrowers and 737 RUS telecommunications borrows. RUS does not own or operate rural electric facilities. Its function is to provide, through self-liquidating loans and technical assistance, adequate and dependable electric and telecommunications service to rural people under rates and conditions that permit productive use of these utility services. RUS borrowers, as all businesses, need accounting systems for their own internal use as well as external use. Such records are maintained as part of normal business practices. Without systems, no records would exist, for example, or what they own or what they owe. Such records systems provide borrowers with information that is required by the manager and board of directors to operate on a dialy basis, to complete their tax returns, and to support requests to state regulatory commissions for rate approvals.

Need and Use of the Information: RUS collects information to evaluate a borrower's financial performance, to determine whether current loans are at risk, and to determine the credit worthiness of future loans. If basic financial records were not maintained, the borrower, its investors, and RUS would be unable to evaluate a borrower's financial performance.

Description of Respondents: Not-for-profit institutions; business or other for-profit.

Number of Respondents: 1,422.

Frequency of Responses: Recordkeeping; Reporting: On occasion.

Total Burden Hours: 38,394.

Animal and Plant Health Inspection Service

Title: Imported Fire Ant.

OMB Control Number: 0579-0102.

Summary of Collection: The Plant Protection and Quarantine Service (PPQ) of USDA's Animal and Plant Health Inspection Service (APHIS) has the responsibility of enforcing quarantines that are designed to prevent Imported Fire Ants from invading areas of the United States that are not yet infested. Information is collected through a variety of forms and certificates to ensure that nursery stock are free of infestation and to regulate movement of specific articles that might carry Imported Fire Ants from infested areas to non-infested areas.

Need and Use of the Information: APHIS requires a variety of forms and certifications to be provided by nursery owners to ensure that plant stock is visually inspected for Imported Fire Ants and to document what treatment was performed if Imported Fire Ants were detected. Additionally, nursery owners must provide information on the movement of regulated items from quarantined areas. APHIS officials used this information to ensure compliance with the Federal and State Imported Fire Ant regulations. Without the collection of this information, APHIS would be unable to prevent Imported Fire Ants from moving beyond the quarantine zone.

Description of Respondents: Business or other for-profit; Federal Government; State, Local or Tribal Government; Farms.

Number of Respondents: 4,024.

Frequency of Responses: Recordkeeping; Reporting: Other (twice monthly).

Total Burden Hours: 5,010.

Animal and Plant Health Inspection Service

Title: Foot-and-Mouth Disease; Prohibition on Importation of Farm Equipment.

OMB Control Number: 0579-0195.

Summary of Collection: 21 U.S.C. authorizes sections 111, 114, 114a, 115, 120, 121, 125, 126 134a, 134c, 134f, and 134g. These authorities permit the Secretary to prevent, control and eliminate domestic diseases such as tuberculosis, as well as to take actions to prevent and to manage exotic diseases such as foot-and-mouth disease (FMD) and other foreign diseases. Disease prevention is the most effective method for maintaining a healthy animal population and enhancing the Animal and Plant Health Inspection Service (APHIS) ability to compete in exporting animals and animal products. Because of the recent increase in the spread of FMD in different parts of the world, APHIS published an interim rule to prohibit the importation of all used farm equipment into the United States from regions in which FMD exists, unless the equipment has been cleaned free of all soil and other particulate material in the exporting region.

Need and Use of the Information: APHIS will collect information through the use of a certification statement in which the exporter states that the cleaning of the equipment has been done. This is necessary to help prevent the introduction of foot-and-mouth disease into the United States. If the information were not collected APHIS would be forced to discontinue the importation of any used farm equipment from FMD regions, a development that could have a damaging financial impact on exporters and importers of this equipment.

Description of Respondents: Business or other for-profit; State, Local or Tribal Government.

Number of Respondents: 1,000.

Frequency of Responses: Reporting: On occasion.

Total Burden Hours: 2,000.

Animal and Plant Health Inspection Service

Title: Center for Animal Health Monitoring Catfish 2003.

OMB Control Number: 0579-NEW.

Summary of Collection: The Department of Agriculture is responsible for protecting the health of our Nation's livestock and poultry populations by preventing the introduction and interstate spread of contagious, infectious, or communicable diseases of livestock (including farm-raised fish) and poultry and for eradicating such diseases from the United States when feasible. The Animal and Plant Health Inspection Service (APHIS) operates the National Animal Health Monitoring System (NAHMS), which collects on a national basis, statistically valid and scientifically sound data on the prevalence and economic importance of livestock and poultry diseases. NAHMS will initiate a national study titled Catfish 2003. The Catfish 2003 study will take place on farms in Alabama, Arkansas, Louisiana, and Mississippi. 7 U.S.C. 391, the Animal Industry Act of 1884, which established the precursor of the Animal and Plant Health Inspection Service, Veterinary Services, the Bureau of Animal Industry, mandates collection and dissemination of animal and poultry health data and information.

Need and Use of the Information: APHIS will use the information collected to (1) address emerging issues, (2) determine the economic consequences of disease, (3) and develop trade strategies and support trade decisions. APHIS will also collect information on the aspects of the catfish growers operation ranging from stocking and feeding practices to pest management practices.

Description of Respondents: Business or other for-profit; State, Local or Tribal Government; Farms.

Number of Respondents: 1,080.

Frequency of Responses: Reporting: On occasion.

Total Burden Hours: 495.

Animal and Plant Health Inspection Service

Title: National Animal Health Monitoring System Dairy 2002.

OMB Control Number: 0579-NEW.

Summary of Collection: The Department of Agriculture is responsible for protecting the health of our Nation's livestock and poultry populations by preventing the introduction and interstate spread of contagious, infectious, or communicable diseases of livestock and poultry and for eradicating such diseases from the United States when feasible. The Animal and Plant Health Inspection Service (APHIS) operates the National Animal Health Monitoring System (NAHMS), which collects on a national basis, statistically valid and scientifically sound data on the prevalence and economic importance of livestock and poultry diseases. NAHMS will initiate a national study titled Dairy 2002. The data collected through the national study will be used to describe Johne's management strategies, evaluate management factors associated with key food safety pathogens, describe level of understanding and preparedness of U.S. dairy producers to respond to threats of foreign animal diseases, and describe biosecurity practices, baseline dairy health, and animal waste handling practices. 7 U.S.C. 391, the Animal Industry Act of 1884, which established the precursor of the Animal and Plant Health Inspection Service, Veterinary Services, the Bureau of Animal Industry, mandates collection and dissemination of animal and poultry health data and information. APHIS will use several forms to collect information.

Need and Use of the Information: APHIS will use the information collected to (1) predict or detect national and regional trends in disease emergence and movement, (2) address emerging issues, (3) determine the economic consequences of diseases, and (4) develop trade strategies and support trade decisions. Without this type of national data, the U.S. ability to detect trends in management, production and health status that increase/decrease farm economy, either directly or indirectly, would be reduced or nonexistent. The ability to respond to international trade issues involving the health status of the U.S. dairy herd would be severely reduced, jeopardizing the marketability of meat and byproducts.

Description of Respondents: Business or other for-profit; State, Local or Tribal Government; Farms.

Number of Respondents: 8,405.

Frequency of Responses: Reporting: On occasion.

Total Burden Hours: 6,680.

Food and Nutrition Service

Title: Evaluation of the NSLP Application and Verification Pilot Project.

OMB Control Number: 0584-NEW.

Summary of Collection: The National School Lunch Program (NSLP) provides federal financial assistance and commodities to schools serving lunches that meet required nutrition standards. Children living in families whose incomes are 130 percent or less of the federal poverty level qualify for free meals; those living in families whose income are between 131 and 185 percent of poverty qualify for reduced-price meals. A verification process instituted in the early 1980s required that each school verify the application of a small sample of families by requiring them to submit documentation of their income. During the late 1990s, USDA and members of Congress became concerned about an apparent increase in the rates of error in determining eligibility for free and reduced-price meals. The study found that the number of children approved for free meals exceeded by 20 percent. In response to concerns about apparent increases in the number of ineligible students approved for free and reduced-price meals, the Food and Nutrition Service (FNS) has undertaken a set of pilot demonstration designed to improve the process of approving students for free and reduced-price meals and verifying their eligibility.

Need and Use of the Information: FNS will collect information to improve the accuracy of the eligibility determination system; raise substantial barriers to income-eligible households; deter income-ineligible households from becoming approved for free/reduced price meals benefits. Not conducting this data collection would significantly impede USDA's ability to evaluate the impacts of the NSLP Application/Verification Pilot Projects.

Description of Respondents: Individuals or household; State, Local, or Tribal Government.

Number of Respondents: 3,216.

Frequency of Responses: Reporting: On occasion; other (1 time).

Total Burden Hours: 2,308.

Food and Nutrition Service

Title: Case Study of NSLP Verification Outcomes in Large Metropolitan Areas.

OMB Control Number: 0584-NEW.

Summary of Collection: The National School Lunch Program (NSLP) provides federal financial assistance and commodities to schools serving lunches that meet required nutrition standards. Children living in families whose incomes are 130 percent or less of the federal poverty level qualify for free meals; those living in families whose incomes are between 131 and 185 percent of poverty qualify for reduced-price meals. A verification process instituted in the early 1980s required that each school verify the application of a small sample of families by requiring them to submit documentation of their income. During the late 1990s, USDA and members of Congress became concerned about an apparent increase in the number of children approved for free and reduced-price meals whose family income made them ineligible. The planned Case Study of Verification Outcomes in Large Metropolitan School Food Authorities will document the outcomes of verification in 21 large metropolitan school districts around the country. Also, through in-person interviews, it will independently assess the eligibility status of two groups of verified cases: (1) Those students continuing to attend district schools whose benefits are terminated for failure to respond to the verification request, and (2) those students whose benefits are unchanged as a result of the verification process.

Need and Use of the Information: FNS will collect information about whether the verification process terminates the benefits of students whose incomes would make them eligible and also evaluate the collection and processing of information by the School Food Authority. Not conducting this data collection would significantly impede the ability of USDA and Congress to evaluate potential changes to the NSLP that might be considered to improve program targeting and administration.

Description of Respondents: Individuals or household; State, Local or Tribal Government.

Number of Respondents: 1,113.

Frequency of Responses: Reporting: On occasion; other (1 time).

Total Burden Hours: 672.

Forest Service

Title: “How Are We Doing”? Customer Service Comment Card.

OMB Control Number: 0596-0146.

Summary of Collection: Executive Order 12862 issued September 11, 1993, directed Federal agencies to change the way they do business, to reform their management practices, to provide service to the public that matches or exceeds the best service available in the private sector, and to establish and implement customer service standards to carry out principles of the National Performance Review. In response to this Executive Order, the Forest Service (FS) set up their customer service comment card program to provide an easy way for the public and partners to communicate their level of satisfaction with FS services and facilities.

Need and Use of the Information: FS will collect information to monitor customer perceptions and provide a means to learn about and address customer complaints. FS will also collect information to help them to improve services and facilities.

Description of Respondents: Individuals or households; Business or other for-profit; Not-for-profit institutions; Federal Government; State, Local or Tribal Government.

Number of Respondents: 15,000.

Frequency of Responses: Reporting: On occasion.

Total Burden Hours: 1,000.

Food Safety and Inspection Service

Title: Pathogen Reduction/Hazard Analysis and Critical Control Point (HACCP) System.

OMB Control Number: 0583-0103.

Summary of Collection: The Food Safety and Inspection Service (FSIS) has been delegated the authority to exercise the functions of the Secretary as provided in the Federal Meat Inspection Act (FMIA) (21 U.S.C. 601) and the Poultry Products Inspection Act (PPIA) (21 U.S.C. 451). These statutes mandate that FSIS protect the public by ensuring the meat and poultry products are safe, wholesome, unadulterated, and properly labeled and packaged. FSIS has begun to build the principle of prevention into its inspection program and requires regulated establishments to prepare operating plans and continuously report performance against the plans.

Need and Use of the Information: Information will be collected from establishments as proof that standard operating plans have been developed. Additionally, information must be reported and pertinent records maintained on the occurrence and numbers of pathogenic microoganisms on meat and poultry products. FSIS will use this information during the inspection process to determine whether an establishment should change its operating procedures so that the public's health is protected.

Description of Respondents: Business or other for-profit.

Number of Respondents: 7,374.

Frequency of Responses: Recordkeeping; Reporting: On occasion; other (daily).

Total Burden Hours: 7,904,222.

Barbara A. Lacour,
Departmental Information Clearance Officer.

[FR Doc. 02-21375 Filed 8-21-02; 8:45 am]

BILLING CODE 3410-01-M